ENVIRONMENTAL PROTECTION AGENCY

40 CFR Part 81

[EPA-R03-OAR-2013-0690; FRL-9921-31-Region 3]

Approval and Promulgation of Air Quality Implementation Plans; West Virginia's Redesignation Request and Associated Maintenance Plan of the West Virginia Portion of the Martinsburg-Hagerstown, WV-MD Nonattainment Area for the 1997 Annual Fine Particulate Matter Standard; Correction

AGENCY: Environmental Protection Agency.

ACTION: Final rule; correcting amendments.

SUMMARY: This document corrects an error in the rule language of a final rule pertaining to West Virginia's request to redesignate to attainment the West Virginia portion of the Martinsburg-Hagerstown, WV-MD nonattainment area for the 1997 annual fine particulate matter (PM2.5) national ambient air quality standard (NAAQS), which was published in the Federal Register on Tuesday, November 25, 2014 (79 FR 70099).

DATES: This document is effective on February 13, 2015.

FOR FURTHER INFORMATION CONTACT: Rose Quinto, (215) 814-2182 or by email at quinto.rose@.epa.gov.

SUPPLEMENTARY INFORMATION: On November 25, 2014 (79 FR 70099), the Environmental Protection Agency (EPA) published a final rulemaking action announcing the approval of West Virginia's request to redesignate to attainment the Martinsburg-Hagerstown, WV-MD nonattainment area for the 1997 annual PM2.5 NAAQS.

Need for Correction

As published, the final redesignation contains an error. EPA inadvertently added the word “Moderate” in the table for the 1997 annual PM2.5 NAAQS. The intent of the final rule was to redesignate the Area to attainment. Moderate is a classification for nonattainment areas. This action corrects the table of 40 CFR part 81 for West Virginia's 1997 annual PM2.5 NAAQS.

List of Subjects in 40 CFR Part 81

Air pollution, National Parks, Wilderness areas.

Dated: January 28, 2015.
William C. Early,
Acting Regional Administrator, EPA Region III.

Accordingly, 40 CFR part 81 is corrected by making the following correcting amendments:

PART 81—DESIGNATION OF AREAS FOR AIR QUALITY PLANNING PURPOSES

1. The authority citation for part 81 continues to read as follows:

Authority: 42 U.S.C. 7401 et seq.

2. Section 81.349 is amended by revising the entry for “Martinsburg, WV-Hagerstown, MD: Berkeley County” at the end of the table titled “West Virginia—1997 Annual PM2.5 NAAQS” to read as follows:

§ 81.349 West Virginia.

* * * * *

West Virginia—1997 Annual PM2.5 NAAQS
[Primary and secondary]
Designated Area | Designation ᵃ: Date ¹ | Designation ᵃ: Type | Classification: Date ² | Classification: Type
* * * * * * *
Martinsburg, WV-Hagerstown, MD:
Berkeley County | 11/25/14 | Attainment
* * * * * * *
ᵃ Includes Indian Country located in each county or area, except as otherwise specified.
¹ This date is 90 days after January 5, 2005, unless otherwise noted.
² This date is July 2, 2014, unless otherwise noted.

* * * * *

[FR Doc. 2015-02851 Filed 2-12-15; 8:45 am]

BILLING CODE 6560-50-P